NUCLEAR REGULATORY COMMISSION

[Docket No. 040-09092; [NRC-2013-0164]

AUC, LLC Reno Creek, In Situ Project, New Source Material License Application

AGENCY: Nuclear Regulatory Commission.

ACTION: Notice of intent to prepare a supplemental environmental impact statement.

SUMMARY: By letter dated October 3, 2012, AUC, LLC (AUC) submitted to the U.S. Nuclear Regulatory Commission (NRC) an application for a new source material license. The requested license, or the proposed action, would authorize the construction and operation, and decommissioning of AUC's proposed in-situ uranium recovery (ISR, also known as in-situ leach) facilities, and would require restoration of the aquifer from which the uranium would be extracted. The proposed facility will be located near the town of Wright, Wyoming in Campbell County. The application was accepted for review by NRC on June 18, 2013. A notice of receipt and availability of the license application, including the Environmental Report (ER), and opportunity to request a hearing was published in the Federal Register on August 5, 2013 (78 FR 47427).

ADDRESSES: Please refer to Docket ID NRC-2013-0164 when contacting the NRC about the availability of information regarding this document. You may access publicly-available information related to this action by the following methods:

• Federal Rulemaking Web site: Go to http://www.regulations.gov and search for Docket ID NRC-2013-0164. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Information and documents associated with the Reno Creek ISR Project, including the license application, are available for public review through our electronic reading room: http://www.nrc.gov/reading-rm/adams.html and on the NRC's Reno Creek ISR Project Web page: http://www.nrc.gov/materials/uranium-recovery/license-apps/reno-creek.html.

• NRC'S PDR: You may examine and purchase copies of public documents at the NRC's PDR, Room O1-F21, One White Flint North, 11555 Rockville Pike, Rockville, Maryland 20852.

FOR FURTHER INFORMATION CONTACT: Jill Caverly, Senior Project Manager, Office of Federal and State Materials and Environmental Management Programs, U.S. Nuclear Regulatory Commission, Washington, DC 20555-0001; telephone: 301-415-6699; email: Jill.Caverly@nrc.gov.

SUPPLEMENTARY INFORMATION:

1.0 Background

The purpose of this notice of intent is to inform the public that the NRC will be preparing a site-specific Supplemental Environmental Impact Statement (SEIS) regarding the proposed action in accordance with NRC's regulations in part 51 of Title 10 of the Code of Federal Regulations (10 CFR), “Environmental Protection Regulations for Domestic Licensing and Related Regulatory Functions,” that implement the National Environmental Policy Act of 1969, as amended (NEPA) (42 U.S.C. 4321 et seq.). The SEIS will tier off of the Generic Environmental Impact Statement for In-Situ Leach Uranium Milling Facilities (ISR GEIS) (NUREG-1910) that was published in 2009. The SEIS will examine the potential environmental impacts of the proposed construction, operation, and decommissioning of the Reno Creek ISR facility. The SEIS will also include an analysis of impacts from the proposed action to historic and cultural resources. The NRC staff will coordinate compliance with the Section 106 of the National Historic Preservation Act of 1966, as amended (NHPA) in parallel with the NEPA process using the process set forth in 36 CFR 800.8(c).

AUC submitted its application for a 10 CFR part 40 license by letter dated October 3, 2012. A notice of receipt and availability of the license application, including the ER, and opportunity to request a hearing was published in the Federal Register on August 5, 2013 (73 FR 47427).

The NRC will prepare a SEIS for the issuance of the ISR license to possess and use source material for uranium milling to fulfill 10 CFR 51.20(b)(8) requirements. The purpose of this Notice of Intent is to inform the public that the NRC staff, as part of its review of AUC's application, is preparing a draft SEIS for public comment that will tier off of the ISR GEIS. The GEIS identifies specific areas for consideration on a site specific basis that form the staff's intended scope for this site specific SEIS. While NRC's part 51 regulations do not require scoping for SEISs, the NRC staff is planning to place ads in newspapers serving communities near the proposed site, requesting information and comments from the public regarding the proposed action as well as information about other resources, such as historic and cultural resources, that could be affected by the proposed action. In preparing the SEIS, the NRC staff will also consult with Environmental Protection Agency Region 8, U.S. Fish & Wildlife Service; Wyoming Department of Environmental Quality; Wyoming State Historic Preservation Office; potentially interested Tribes and public interest groups; and Wyoming Game and Fish Department.

The NRC will evaluate the potential environmental impacts associated with the proposed ISR facility in parallel with the safety review of the license application. The environmental evaluation will be documented in draft and final SEISs in accordance with NEPA and NRC's implementing regulations contained in 10 CFR part 51.

2.0 Reno Creek ISR Facilities

The facilities, if licensed, would use ISR technology to extract uranium from the 6,057-acre project site. The facility would include a central processing plant, consisting of pressurized down flow ion exchange columns, accompanying wellfields (including injection and production wells), and horizontal and vertical excursion monitoring well networks. The ISR process involves the dissolution of the water-soluble uranium from the mineralized host sandstone rock by pumping oxidants and chemical compounds through a series of injection wells. The uranium-rich solution is transferred from production wells to the central processing plant for uranium concentration using ion exchange columns. Final processing is conducted in the central processing plant to produce yellowcake, which would be sold to offsite facilities for further processing and eventual use as commercial fuel in nuclear power reactors.

3.0 Alternatives To Be Evaluated

No-Action—the no-action alternative would be to deny the license application. Under this alternative, the NRC would not issue the license. This serves as a baseline for comparison.

Proposed Action—the proposed federal action is to issue a license authorizing the possession and use of source material at the proposed ISR facilities. The license review process analyzes the safety and environmental issues related to the construction, operation, and decommissioning of the ISR facilities, and the restoration of the aquifer from which the uranium would be extracted. The applicant would be issued an NRC license under the provisions of 10 CFR part 40.

Other alternatives not listed here may be identified through the environmental review process.

4.0 Environmental Impact Areas To Be Analyzed

The following areas have been tentatively identified for analysis in the SEIS:

• Land Use: Plans, policies, and controls;

• Transportation: Transportation modes, routes, quantities, and risk estimates;

• Geology and Soils: Physical geography, topography, geology, and soil characteristics;

• Water Resources: Surface and groundwater hydrology, water use and quality, and the potential for degradation;

• Ecology: Wetlands, aquatic, terrestrial, economically and recreationally; Important species, and threatened and endangered species;

• Air Quality: Meteorological conditions, ambient background, pollutant sources, and the potential for degradation;

• Noise: Ambient, sources, and sensitive receptors;

• Historical and Cultural Resources: Historical, archaeological, and traditional cultural resources;

• Visual and Scenic Resources: Landscape characteristics, manmade features and viewshed;

• Socioeconomics: Demography, economic base, labor pool, housing, transportation, utilities, public services/facilities, and education;

• Environmental Justice: Potential disproportionately high and adverse impacts to minority and low-income populations;

• Public and Occupational Health: Potential public and occupational consequences from construction, routine operation, transportation, and credible accident scenarios (including natural events);

• Waste Management: Types of wastes expected to be generated, handled, and stored; and

• Cumulative Effects: Impacts from past, present, and reasonably foreseeable actions at and near the site(s).

This list is not intended to be all inclusive, nor is it a predetermination of potential environmental impacts.

5.0 The NEPA Process

The SEIS for the Reno Creek ISR Project will be prepared pursuant to the NRC's NEPA regulations at 10 CFR Part 51. The NRC will conduct its environmental review of the application and as soon as practicable, the NRC will prepare and publish a draft SEIS. The NRC currently plans to have a 45-day public comment period for the draft SEIS. Availability of the draft SEIS and the dates of the public comment period will be announced in the Federal Register and the NRC Web site: www.nrc.gov. The final SEIS will include responses to public comments received on the draft SEIS.

Dated at Rockville, Maryland, this 12th day of August, 2013.
For the U.S. Nuclear Regulatory Commission.
Aby Mohseni,
Deputy Director, Environmental Protection and Performance Assessment Directorate, Division of Waste Management and Environmental Protection, Office of Federal and State Materials and Environmental Management Programs.

[FR Doc. 2013-20386 Filed 8-20-13; 8:45 am]

BILLING CODE 7590-01-P